FEDERAL COMMUNICATIONS COMMISSION

[DA 16-1011]

Federal Advisory Committee Act; Disability Advisory Committee

AGENCY: Federal Communications Commission.

ACTION: Notice.

SUMMARY: In this document, the Federal Communications Commission (FCC or Commission) announces its intent to renew a Federal Advisory Committee, known as the “Disability Advisory Committee” (hereinafter “the Committee”), and to solicit nominations for membership to the next term of this Committee in accordance with the Federal Advisory Committee Act.

DATES: Applications are due as soon as possible, but no later than October 14, 2016.

ADDRESSES: Federal Communications Commission, 445 12th Street SW., Washington, DC 20554.

FOR FURTHER INFORMATION CONTACT: Elaine Gardner, Designated Federal Officer, Consumer and Governmental Affairs Bureau, (202) 418-0581 (voice or relay), or the ASL Consumer Support Line: 1-844-432-2275 via videophone; email: Elaine.Gardner@fcc.gov.

SUPPLEMENTARY INFORMATION: Applications and nominations for membership, including a statement of qualifications as noted below, should be submitted by email to the Federal Communications Commission at DAC@fcc.gov. Applications will be acknowledged shortly after receipt via email. No specific application form is required; however applications from consumer organizations, corporations, nonprofits, or other entities (hereinafter “organizational applicants”) should include the following information:

• The name of the organizational applicant applying for Committee membership (including whether the organizational applicant has previously served on the Committee);

• The name of the organizational applicant's primary representative, including title, postal mailing address, email address, and telephone number;

• The name of the organizational applicant's alternate representative, if any, including title, postal mailing address, email address, and telephone number;

• A statement noting the constituency represented by the organizational applicant (e.g., persons with disabilities, government, industry, etc.);

• The areas of communications accessibility in which the applicant has an interest, as well as the applicant's knowledge of and expertise in these areas and on other issues to be addressed by the Committee;

• A statement indicating the willingness of the organizational applicant to serve a two-year term; attend at least three plenary Committee meetings per year in Washington DC; serve on at least one working group or subcommittee; and an acknowledgement that the organizational applicant will serve without reimbursement of travel expenses or payment of honoraria, or a statement indicating that partial reimbursement of travel expenses will be sought; and

• A narrative statement detailing the organizational applicant's previous involvement concerning issues relevant to the Committee's work and the applicant's ability and willingness to contribute substantively to the Committee's deliberations.

In the case of an individual applicant the application should include the following:

• The areas of communications accessibility in which the applicant has an interest, as well as the applicant's knowledge of and expertise in these areas and on other issues to be addressed by the Committee;

• A statement that the individual applicant is not a registered lobbyist (as noted above, financial and other additional disclosures may also apply to individual applicants);

• A statement by the individual applicant indicating a willingness to serve on the Committee for a two-year term; a commitment to attend three (3) plenary one-day meetings per year in Washington, DC; a commitment to work on at least one working group or subcommittee; and an acknowledgement that the individual applicant will serve without reimbursement of travel expenses or payment of honoraria, or a statement indicating that partial reimbursement of travel expenses will be sought; and

• A statement as to whether the individual applicant has served on the Committee previously.

All members will have an initial and continuing obligation to disclose any interests in, or connections to, persons or entities that are, or will be, regulated by or have interests before the Commission. Please note this Notice is not intended to be the exclusive method by which the Commission will solicit nominations of and expressions of interest from qualified candidates. All candidates for membership on the Committee will, however, be subject to the same evaluation criteria.

After the applications have been reviewed, the Commission will publish a notice in the Federal Register announcing the appointment of the Committee members and the first meeting date of the Committee. All applicants will be notified via email or U.S. mail concerning the disposition of their applications. The Commission anticipates that appointments or re-appointments to the Committee will be commensurate with the renewal date of the Committee (December 30, 2016), and that the first meeting of the renewed Committee will occur in early 2017.

To request materials in accessible formats for people with disabilities (Braille, large print, electronic files, audio format), send an email to fcc504@fcc.gov or call the Consumer and Governmental Affairs Bureau at (202) 418-0530 (voice), or call ASL Consumer Support Line at (844) 432-2275 via videophone.

Synopsis

1. On December 29, 2014, the Committee was established for a period of two years from the original charter date. The Commission anticipates that the Committee will hold the final meeting of its current term on December 6, 2016. Thereafter the Committee's charter and all member appointments will terminate on December 29, 2016. The Commission anticipates that the Committee's charter will be renewed for another two-year term. The Committee will operate in accordance with the provisions of the Federal Advisory Committee Act, 5 U.S.C. App. 2 (1988). Each meeting of the Committee will be open to the public. A notice of each meeting will be published in the Federal Register at least fifteen days in advance of the meeting. Records will be maintained of each meeting and made available for public inspection. More information about the Committee's recommendations and subcommittees may be found at its Web site: https://www.fcc.gov/general/disability-advisory-committee.

2. The Committee, which was created under the Federal Advisory Committee Act, provides a vehicle for consumers and other stakeholders to provide feedback and recommendations to the Commission on a wide array of disability issues within the FCC's jurisdiction. In addition to keeping the Commission apprised of current and evolving communications accessibility issues for persons with disabilities, recommendations from the Committee have enabled the FCC to build on its record of ensuring access to communications and video programming for people with disabilities. Some of the issues the Committee has addressed, and will continue to address, include telecommunications relay services, closed captioning, video description, access to emergency information on television and telephone emergency services, device accessibility, IP and other technology transitions, and the National Deaf-Blind Equipment Distribution Program. When renewed, the Committee will also address new accessibility issues that arise.

3. The Commission seeks applications from interested consumer organizations, industry and trade associations, corporations, governmental entities, and individuals that wish to be considered for membership on the Committee. Selections will be made on the basis of factors such as expertise and diversity of viewpoints that are necessary to effectively address the questions before the Committee. The Commission will determine the appropriate Committee size necessary to effectively accomplish the Committee's work. The Commission expects that on an annual basis the Committee will meet in Washington, DC for a minimum of three one-day meetings, all of which will be fully accessible to individuals with disabilities. In addition, working groups or subcommittees will be established as needed to facilitate the Committee's work between meetings of the full Committee. Working group and subcommittee deliberations will be conducted primarily through email and teleconference/videoconference meetings.

4. Members must be willing to commit to a two-year term of service, should be willing and able to attend three one-day meetings per year in Washington, DC, and will also be expected to participate in deliberations of at least one working group or subcommittee. The time commitment to each working group or subcommittee may be substantial. The Commission does not provide payment or honoraria to members, and generally does not reimburse members for travel expenses, although it may have very limited funds to partially reimburse travel expenses of members who demonstrate need.

5. Some applicants possessing expertise or perspectives of interest to the Committee, and who will serve on the Committee in an individual capacity (and not as the representative of a corporation, nonprofit, or other entity), are deemed to be Special Government Employees (SGEs). Such individuals are ineligible to serve if they are federally registered lobbyists. In addition, although all individuals serving on the Committee or its working groups, whether representatives or SGEs, can have personal or financial interests in their individual capacities that could create a conflict with the work of the Disability Advisory Committee if not properly addressed in consultation with the Commission's Office of General Counsel, SGEs specifically are subject to a variety of restrictions under the conflict of interest statutes, 18 U.S.C. 203 et seq., and the Standards of Ethical Conduct for Employees of the Executive Branch, 5 CFR 2635. While not subject to those ethics restrictions to the same extent as more typical government employees because there are exceptions and waiver provisions available only to SGEs, SGEs do have to file confidential employee financial disclosure forms prior to beginning their service and annually thereafter. SGEs will also be subject to ethics restrictions in section 4(b) of the Communications Act, 47 U.S.C. 154(b), and in the Commission's rules, 47 CFR 19, 5 CFR 3901 and 3902.

Federal Communications Commission.
Karen Peltz Strauss,
Deputy Chief, Consumer and Governmental Affairs Bureau.

[FR Doc. 2016-23049 Filed 9-23-16; 8:45 am]

BILLING CODE 6712-01-P